INTERNATIONAL TRADE COMMISSION

[Investigation No. 337-TA-938]

Certain Coaxial Cable Connectors and Components Thereof and Products Containing Same Commission Determination Not To Review an Initial Determination Terminating the Investigation in Its Entirety Based Upon Withdrawal of the Complaint

AGENCY: U.S. International Trade Commission.

ACTION: Notice.

SUMMARY: Notice is hereby given that the U.S. International Trade Commission has determined not to review an initial determination (“ID”) (Order No. 10) of the presiding administrative law judge (“ALJ”) granting complainant's motion to withdraw the complaint and terminate the investigation in its entirety.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Inv. No. 337-TA-938 on December 10, 2014, based on a complaint filed by PPC Broadband, Inc. of East Syracuse, New York (“PPC”). 79 FR 73336-37 (Dec. 10, 2014). The complaint alleges violations of section 337 of the Tariff Act of 1930, as amended (19 U.S.C. 1337), in the importation into the United States, the sale for importation, and the sale within the United States after importation of certain coaxial cable connectors and components thereof and products containing the same by reason of infringement of several claims of United States Patent No. 8,801,448. The notice of investigation named Corning Optical Communications RF, LLC of Glendale, Arizona (Corning) as respondent. The Office of Unfair Import Investigations is a party to this investigation.

On September 22, 2015, PPC moved to withdraw the complaint and terminate the investigation in its entirety. Corning and the Commission investigative attorney do not oppose the motion.

On September 25, 2015, the ALJ issued the subject ID, granting the motion. The ALJ found that the motion complied with the requirements of Commission Rule 210.21(a)(1) (19 CFR 210.21(a)(1)) and further found that no extraordinary circumstances prohibited granting the motion. None of the parties petitioned for review of the ID.

The Commission has determined not to review the ID.

The authority for the Commission's determination is contained in section 337 of the Tariff Act of 1930, as amended (19 U.S.C. 1337), and in part 210 of the Commission's Rules of Practice and Procedure (19 CFR part 210).

By order of the Commission.
Dated: October 20, 2015.
Lisa R. Barton,
Secretary to the Commission.

[FR Doc. 2015-27100 Filed 10-23-15; 8:45 am]

BILLING CODE 7020-02-P